DEPARTMENT OF HOMELAND SECURITY

Coast Guard

[USCG-2005-21093]

Notification of the Imposition of Conditions of Entry for Certain Vessels Arriving to the United States

AGENCY: Coast Guard, DHS.

ACTION: Notice of policy.

SUMMARY: The Coast Guard announces that effective anti-terrorism measures are not in place in certain ports of Equatorial Guinea and that it will impose conditions of entry on vessels arriving from that country. The Coast Guard also announces that conditions of entry are being removed from vessels arriving from ports in the Democratic Republic of Congo.

DATES: The policy announced in this notice is effective on February 7, 2006.

ADDRESSES: The Docket Management Facility maintains the public docket for this notice. This notice will be available for inspection or copying at room PL-401 on the Plaza level of the Nassif Building, 400 Seventh Street, SW., Washington, DC, between 9 a.m. and 5 p.m., Monday through Friday, except Federal holidays. You may also find this docket, including this notice, on the Internet at http://dms.dot.gov..

FOR FURTHER INFORMATION CONTACT: If you have questions on this notice, call Mr. Mike Brown, Coast Guard, telephone 202-267-4330.

SUPPLEMENTARY INFORMATION:

Background and Purpose

Section 70110 of the Maritime Transportation Security Act provides that the Secretary of Homeland Security may impose conditions of entry into the United States from ports that are not maintaining effective anti-terrorism measures. The Coast Guard has been delegated the authority by the Secretary to carry out the provisions of this section. The Docket contains previous notices imposing or removing conditions of entry on vessels arriving from certain countries and those conditions of entry and the countries they pertain to remain in effect unless modified by this notice.

The Coast Guard has determined that ports, with certain exceptions, in Equatorial Guinea are not maintaining effective anti-terrorism measures. Accordingly, effective February 7, 2006, the Coast Guard will impose the following conditions of entry on vessels that visited ports in Equatorial Guinea with the exception of Punta Europa, K-5, Luba, Zafiro, and Ceiba during their last five port calls. Vessels must:

• Implement measures per the ship's security plan equivalent to Security Level 2;

• Ensure that each access point to the ship is guarded and that the guards have total visibility of the exterior (both landside and waterside) of the vessel while the vessel is in ports in the above countries. Guards may be provided by the ship's crew, however additional crewmembers should be placed on the ship if necessary to ensure that limits on maximum hours of work are not exceeded and/or minimum hours of rest are met, or provided by outside security forces approved by the ship's master and Company Security Officer;

• Attempt to execute a Declaration of Security;

• Log all security actions in the ship's log;

• Report actions taken to the cognizant U.S. Coast Guard Captain of the Port prior to arrival into U.S. waters; and

• Ensure that each access point to the ship is guarded by armed, private security guards and that they have total visibility of the exterior (both landside and waterside) of the vessel while in U.S. ports. The number and position of the guards has to be acceptable to the Coast Guard Captain of the Port.

Based on recent information, the Coast Guard is removing the conditions of entry announced in its previously published Notice of Policy (70 FR 22668) for the Democratic Republic of Congo.

With this notice, the current list of countries not maintaining effective anti-terrorism measures is as follows: Equatorial Guinea, Guinea-Bissau, Liberia, and Mauritania.

January 10, 2006.
Craig E. Bone,
Rear Admiral, U.S. Coast Guard, Assistant Commandant for Prevention, Acting.

[FR Doc. E6-756 Filed 1-23-06; 8:45 am]

BILLING CODE 4910-15-P